SECURITIES AND EXCHANGE COMMISSION

[SEC File No. 270-563, OMB Control No. 3235-0649]

Submission for OMB Review; Comment Request; Extension: Rule 17g-5

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the collection of information summarized below. The Commission plans to submit an extension for this current collection of information to the Office of Management and Budget for approval.

Rule 17g-5(a)(3) and (e) (17 CFR 240.17g-5(a)(3) and (e)) contain collection of information requirements. Specifically, Rule 17g-5(a)(3) prohibits a person within a nationally recognized statistical rating organization (“NRSRO”) from having a conflict of interest relating to the issuance or maintenance of a credit rating for a security or money market instrument issued by an asset pool or as part of any asset-backed securities transaction that was paid for by the issuer, sponsor, or underwriter of the security or money market instrument unless certain information and representations relating to the security are disclosed or furnished.

Currently, there are 6 credit rating agencies registered as NRSROs in the issuer of asset-backed securities category of credit ratings, and it is estimated based on recent issuance data that there are approximately 1,480 new asset-backed securities transactions per year that implicate Rule 17g-5(a)(3). Based on Commission staff's experience, it is estimated that the total annual hour burden to comply with Rule 17g-5(a)(3) will be 61,899 hours. The Commission further estimates that this annual hour burden will result in a total annual cost of $14,126,168. This cost is attributable to costs that may be incurred by NRSROs and arrangers of asset-backed securities posting information on a password-protected website, as required by Rule 17g-5, and preparing and procuring representations to determine whether an exemption under the rule applies, as well as costs incurred by NRSROs preparing certifications required under the rule to gain access to websites maintained by other NRSROs or arrangers of asset-backed securities.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent within 30 days of publication of this notice by September 13, 2024 to (i) www.reginfo.gov/public/do/PRAMain and (ii) Austin Gerig, Director/Chief Data Officer, Securities and Exchange Commission, c/o Oluwaseun Ajayi, 100 F Street, NE, Washington, DC 20549, or by sending an email to: PRA_Mailbox@sec.gov.

Dated: August 9, 2024.
Vanessa A. Countryman,
Secretary.

[FR Doc. 2024-18172 Filed 8-13-24; 8:45 am]

BILLING CODE 8011-01-P